DEPARTMENT OF ENERGY

Federal Energy Regulatory Commission

[Project No. 14241-000]

Alaska Energy Authority; Errata Notice

A typographical error was made in our September 17, 2012 Notice of “Extension of Time To File Comments on the Proposed Study Plan and the Revised Study Plan for the Susitna-Watana” Project No. 14241. Comments on the proposed study plan are due November 14, 2012. All other dates in the notice are correct.

Dated: September 21, 2012.
Kimberly D. Bose,
Secretary.

[FR Doc. 2012-23809 Filed 9-26-12; 8:45 am]

BILLING CODE 6717-01-P